DEPARTMENT OF HEALTH AND HUMAN SERVICES

Centers for Medicare & Medicaid Services

Analyses, Research, and Studies To Assess the Impact of Centers for Medicare & Medicaid Services Programs on American Indians/Alaska Natives and the Indian Health Care System Serving American Indians/Alaska Natives Beneficiaries

AGENCY: Centers for Medicare & Medicaid Services (CMS), HHS.

ACTION: Notice of a single source award.

SUMMARY: Through a Notice of Funding Opportunity, “Analyses, Research, and Studies to Assess the Impact of Centers for Medicare & Medicaid Services (CMS) Programs on American Indians/Alaska Natives (AI/ANs) and the Indian Health Care System Serving AI/AN Beneficiaries,” CMS has sought an application from the National Indian Health Board (NIHB)for a single source cooperative agreement. The funding CMS anticipates awarding under this single source cooperative agreement will support research to assess the impact of CMS programs that affect AI/ANs and the Indian Health Care System.

DATES: The NIHB's application is due on September 1, 2022, and if the application is approved, CMS anticipates awarding a single source cooperative agreement by September 28, 2022. The anticipated period of performance for the cooperative agreement would be from September 29, 2022, through September 28, 2027, subject to the availability of funds and satisfactory performance.

FOR FURTHER INFORMATION CONTACT: Rhonda Martinez-McFarland, Project Officer (206) 615-2267.

SUPPLEMENTARY INFORMATION:

I. Background

Through a Notice of Funding Opportunity (NOFO), “Analyses, Research, and Studies to Assess the Impact of Centers for Medicare & Medicaid Services (CMS) Programs on American Indians/Alaska Natives (AI/ANs) and the Indian Health Care System Serving AI/AN Beneficiaries,” CMS has sought an application from the National Indian Health Board (NIHB) for a single source cooperative agreement. The funding CMS anticipates awarding under this single source cooperative agreement will support research to assess the impact of CMS programs that affect AI/ANs and the Indian Health Care System, composed of Indian Health Service (IHS) providers, providers that are Tribally operated under the Indian Self Determination and Education Assistance Act (ISDEAA), and providers operated by Urban Indian organizations (collectively referred to as ITU providers). This cooperative agreement is authorized under Section 1110 of the Social Security Act, codified at 42 U.S.C. 1310, which authorizes federal funding for analyses, research, and studies which will help improve the administration and effectiveness of programs carried on or assisted under the Social Security Act and programs related thereto.

CMS anticipates that the research conducted under this award will help CMS to develop more effective and efficient ways to increase access to health services and coverage for the AI/AN population, including by improving and increasing the enrollment of AI/AN individuals and Indian Health Care System providers in Medicare, Medicaid, the Children's Health Insurance Program (CHIP), and Health Insurance Marketplace® ¹ coverage. CMS also anticipates that the research conducted under this award might help CMS develop policies to reduce health inequities experienced by AI/AN communities.

¹ Health Insurance Marketplace® is a registered service mark of the U.S. Department of Health & Human Services.

The scope of the work under the anticipated award builds on NIHB's past experience and knowledge and is expected to help CMS better serve AI/AN communities. NIHB was established by federally recognized Tribes to advocate as their united voice. NIHB seeks to reinforce Tribal sovereignty, strengthen Tribal health care systems, secure resources, and build capacity to achieve the highest level of health and well-being for AI/ANs. NIHB provides culturally appropriate outreach and education to Tribal communities to encourage enrollment of AI/ANs in CMS programs. Data analysis conducted by NIHB is shared with Tribal leaders to increase their knowledge of the important role CMS plays in providing greater access to health coverage in Tribal communities. In the past, NIHB has conducted extensive analysis of AI/AN enrollment in Medicare, which resulted in several data symposiums and reports. More recently, NIHB analyzed data from the American Community Survey (ACS) to demonstrate an increase in AI/AN enrollment in Medicare and Medicaid. NIHB's initial analysis of Medicaid enrollment noted an increase of AI/ANs enrolled in Medicaid from 1.4 million in 2012 to 1.7 million in 2016. Through the work of NIHB, Tribal leaders and Tribal health directors have gained a better understanding of CMS policies and programs and their impact on the Indian Health Care System and Tribal communities.

II. Provisions of the Notice

CMS has solicited a proposal from the NIHB to undertake analysis, research, and studies to assess the impact of CMS programs on AI/AN beneficiaries and the Indian Health Care System serving those beneficiaries. The project consists of five principal tasks:

• Research and analysis of impact of CMS Regulations/Policies on AI/ANs and on the Indian Health Care System: Assess the ongoing impact of CMS programs through an analysis of CMS regulations, policies, and initiatives that have a potential impact or effect on the Indian Health Care System and on AI/ANs. The objective is to determine the level of Tribal input in the CMS regulatory and policy formulation process and assess whether such input was effectively considered in the final development of CMS regulations and policies that impact AI/ANs and the Indian Health Care System.

• Data Research and Analysis: Analysis of AI/AN demographic, enrollment, and utilization data by reviewing CMS, IHS, Social Security Administration (SSA), United States Census, and other data resources in order to develop strategies that make CMS data systems capable of reporting on AI/AN enrollment. Determine service utilization, health status, and payment data from Medicare, Medicaid, CHIP, and Health Insurance Marketplace® coverage. The results of this data analysis are expected to help facilitate CMS program planning, evaluation, performance measurement, health status monitoring, and targeted enrollment efforts. In addition, the data analysis will include a review of data to help address health inequities experienced by Tribal communities in a coordinated continuous effort with CMS and Tribal partners.

• Research & Strategic Priority Planning: Review, revise, and provide updates to the CMS Tribal Technical Advisory Group (TTAG) strategic plan activities to reflect the views of all federally recognized Tribal leaders on changes to Medicare, Medicaid, CHIP, and Health Insurance Marketplace® coverage that impact AI/ANs and the Indian Health Care System, including changes to CMS programs resulting from legislation, regulations, policy guidance, and new initiatives or priorities of the agency.

• Consultation Policy: Provide research support on the use and effectiveness of the CMS Tribal Consultation Policy, national consultations and listening sessions with Tribes on CMS program issues, and annual HHS National and Regional Consultation Sessions with Tribes. Track issues raised at Tribal consultation/listening sessions and develop an executive summary on key issues and recommended actions for resolution and/or further analysis.

• Enrollment and Outreach: Evaluate the effectiveness of CMS outreach and enrollment efforts to AI/ANs enrolled in CMS-regulated programs by conducting quarterly trainings on these programs for Tribal enrollment assisters, ITU providers, ITU third-party resource staff, and AI/ANs. NIHB will complete an assessment and compile best practices to increase AI/AN enrollment in Medicare, Medicaid, CHIP, and Health Insurance Marketplace® coverage. In addition, NIHB, in collaboration with CMS, will develop culturally appropriate Tribal outreach materials. The information NIHB uses to evaluate CMS outreach and enrollment efforts will be collected based on feedback from CMS annual ITU trainings, AI/AN outreach events, and other data sources. NIHB, in collaboration with Tribal leadership and CMS, will summarize lessons learned and make recommendations on how CMS could improve AI/AN outreach efforts in Indian Country.

Amount of the Award

The total amount of funding available over a 5-year period will be up to $4,000,000 pending availability of funds and satisfactory performance by the recipient. The cooperative agreement will be awarded consistent with the overall quality of the proposal and the applicant's ability to meet project goals. The amount of funding awarded will be no more than $800,000 per 12-month budget period, subject to availability of funds, and there will be five 12-month budget periods under this award. Funding for budget periods 2-5 is non-competitive and is subject to the availability of funds as well as satisfactory performance of the recipient. The total award will not exceed $4,000,000.

Justification for Single Source Award

In 2012, CMS awarded a five-year single-source cooperative agreement to NIHB under Section 1110 of the Social Security Act and in 2017, CMS awarded a second five-year single source cooperative agreement to NIHB under the same authority. With this NOFO, CMS has sought an application from NIHB for a third five-year single source award, under the same authority.

Through its two previous cooperative agreements, since 2012, NIHB has provided analysis and research on the potential and actual impact of CMS policies and guidance on AI/ANs and the Indian Health Care System. The work has included analysis and research on Medicare and Medicaid enrollment of AI/ANs in order to gain a better understanding of AI/AN utilization of CMS programs.

In addition, NIHB has been instrumental in tracking CMS regulation and policy changes, and has provided a better understanding of the implications that CMS regulations and guidance have had for Indian Health Care System providers and AI/AN individuals. This includes evaluating the impact of effective and meaningful Tribal consultation. NIHB has a long history of providing unique forums for showcasing how CMS works within Indian Country to promote enrollment of AI/ANs and Indian Health Care System providers in CMS programs.

Based on this past experience, NIHB is the only entity capable of carrying out the scope of activities in Fiscal Years (FY) 2022-2027 because the scope of the work that would be performed under this award builds on past experience and knowledge. Any other source would not have all of the knowledge and experience NIHB has gained in the last ten years.

Project Period

The anticipated period of performance for this cooperative agreement is September 29, 2022 through September 28, 2027 with funding awarded in 12-month budget increments subject to the availability of funds and satisfactory performance.

III. Collection of Information Requirements

This document does not impose information collection requirements, that is, reporting, recordkeeping, or third-party disclosure requirements. Consequently, there is no need for review by the Office of Management and Budget under the authority of the Paperwork Reduction Act of 1995 (44 U.S.C. 3501 et seq.).

The Administrator of the Centers for Medicare & Medicaid Services (CMS), Chiquita Brooks-LaSure, having reviewed and approved this document, authorizes Evell Barco Holland, who is the Federal Register Liaison, to electronically sign this document for purposes of publication in the Federal Register.

Authority: Social Security Act section 1110.

Dated: August 30, 2022.
Evell Barco Holland,
Federal Register Liaison, Centers for Medicare & Medicaid Services.

[FR Doc. 2022-19085 Filed 9-1-22; 8:45 am]

BILLING CODE 4120-01-P